DEPARTMENT OF TRANSPORTATION

Federal Highway Administration

Notice of Final Federal Agency Actions on Proposed Highway in California

AGENCY: Federal Highway Administration (FHWA), DOT.

ACTION: Notice of Limitation on Claims for Judicial Review of Actions by the California Department of Transportation (Caltrans), pursuant to 23 U.S.C. 327.

SUMMARY: The FHWA, on behalf of Caltrans, is issuing this notice to announce actions taken by Caltrans that are final. The actions relate to a proposed highway project on State Route 91 (Post Miles 16.9-19.8) and on Interstate 605 (Post Miles 5.0-5.8) in the Cities of Cerritos and Artesia, in the County of Los Angeles, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before July 26, 2019. If the Federal law that authorizes judicial review of a claim provides a time period of less than 150 days for filing such claim, then that shorter time period still applies.

FOR FURTHER INFORMATION CONTACT: For Caltrans: Jinous Saleh, Senior Environmental Planner, Caltrans District 7, 100 South Main Street, Suite MS 16A, Los Angeles, California, 90012, (213) 897-0683, Jinous.Saleh@dot.ca.gov. For FHWA, Larry Vinzant at (916) 498-5040 or email larry.vinzant@dot.gov.

SUPPLEMENTARY INFORMATION: Effective July 1, 2007, the Federal Highway Administration (FHWA) assigned, and the California Department of Transportation (Caltrans) assumed, environmental responsibilities for this project pursuant to 23 U.S.C. 327. Notice is hereby given that the Caltrans and the FHWA have taken final agency actions subject to U.S.C. 139(l)(1) by issuing licenses, permits, and approvals for the following highway project in the State of California: The Westbound State Route 91 Improvement Project will widen and improve approximately 4 miles (mi) of freeway along westbound State Route 91 (SR-91) between approximately Shoemaker Avenue and the Interstate 605 (I-605) interchange, and at the I-605 northbound exit to Alondra Boulevard. Caltrans approved the construction of the Build Alternative with Design Option 1 (Reduced Lane/Shoulder Width) and Design Option 3 (Pioneer Boulevard Westbound Ramps/168th Alignment). Also, as part of the project, the Gridley Road Overcrossing will be improved to a two-lane road with standard shoulders and sidewalks on both sides. The actions by the Federal agencies, and the laws under which such actions were taken, are described in the Environmental Assessment/Finding of No Significant Impact (EA/FONSI) for the project, approved on January 17, 2019, and in other documents in Caltrans project records. The EA/FONSI and other project records are available by contacting Caltrans at the addresses provided above. The Caltrans EA/FONSI can be viewed and downloaded from the project website at http://www.dot.ca.gov/d7/env-docs/.

This notice applies to all Federal agency decisions as of the issuance date of this notice and all laws under which such actions were taken, including but not limited to:

1. General: National Environmental Policy Act (NEPA) (42 U.S.C. 4321-4351)

2. Clean Air Act (42 U.S.C. 7401-7671(q))

3. Migratory Bird Treaty Act (16 U.S.C. 703-712)

4. Historic and Cultural Resources: Section 106 of the National Historic Preservation Act of 1966, as amended (16 U.S.C. 470(f) et seq.)

5. Clean Water Act (Section 401) (33 U.S.C. 1251-1377)

6. Federal Endangered Species Act of 1973 (16 U.S.C. 1531-1543)

7. Executive Order 11990—Protection of Wetlands

8. Department of Transportation Act of 1966, Section 4(f) (49 U.S.C. 303)

9. Executive Order 13112—Invasive Species

(Catalog of Federal Domestic Assistance Program Number 20.205, Highway Planning and Construction. The regulations implementing Executive Order 12372 regarding intergovernmental consultation on Federal programs and activities apply to this program.)

Authority: 23 U.S.C. 139(l)(1).

Tashia J. Clemons,
Director, Planning and Environment, Federal Highway Administration, Sacramento, California.

[FR Doc. 2019-03250 Filed 2-25-19; 8:45 am]

BILLING CODE 4910-RY-P